DEPARTMENT OF ENERGY

Federal Energy Regulatory Commission

[Docket No. RP03-93-000]

Transcontinental Gas Pipe Line Corporation; Notice of Refund Report

November 26, 2002.

Take notice that on November 18, 2002, Transcontinental Gas Pipe Line Corporation (Transco) tendered for filing a report reflecting the flow through of refunds received from National Fuel Gas Supply Corp.

On November 18, 2002, in accordance with section 4 of its Rate Schedules SS-2 and LSS, Transco states that it refunded to its SS-2 customers $7,092.81 and its LSS customers $3,224.03 resulting from the refund of National Fuel Gas Supply Corp. The refund covers the period from January 1998 to June 2000.

Any person desiring to be heard or to protest said filing should file a motion to intervene or a protest with the Federal Energy Regulatory Commission, 888 First Street, NE., Washington, DC 20426, in accordance with sections 385.214 or 385.211 of the Commission's rules and regulations. All such motions or protests must be filed on or before December 3, 2002. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's web site under the “e-Filing” link.

Linwood A. Watson, Jr.,
Deputy Secretary.

[FR Doc. 02-30725 Filed 12-3-02; 8:45 am]

BILLING CODE 6717-01-P